RAILROAD RETIREMENT BOARD

Agency Forms Submitted for OMB Review, Request for Comments

In accordance with the Paperwork Reduction Act of 1995 (44 U.S.C. chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Application for Employee Annuity Under the Railroad Retirement Ac; OMB 3220-0002.

Section 2(a) of the Railroad Retirement Act (RRA) (45 U.S.C. 231a) provides for payments of age and service, disability, and supplemental annuities to qualified employees. An annuity cannot be paid until the employee stops working for a railroad employer. In addition, the age and service employee must relinquish any rights held to such jobs. A disabled employee does not need to relinquish employee rights until attaining Full Retirement Age, or if earlier, when their spouse is awarded a spouse annuity. Benefits become payable after the employee meets certain other requirements, which depend on the type of annuity payable. The requirements for obtaining the annuities are prescribed in 20 CFR 216 and 220.

To collect the information needed to help determine an applicant's entitlement to, and the amount of, an employee retirement annuity the RRB uses Forms AA-1, Application for Employee Annuity; AA-1d, Application for Determination of Employee Disability; G-204, Verification of Workers Compensation/Public Disability Benefit Information, and electronic Forms AA-1cert, Application Summary and Certification, and AA-1sum, Application Summary.

The AA-1 application process obtains information from an applicant about their marital history, work history, military service, benefits from other governmental agencies, railroad pensions and Medicare entitlement for either an age and service or disability annuity. An RRB representative interviews the applicant either at a field office, an itinerant point, or by telephone. During the interview, the RRB representative enters the information obtained into an on-line information system. Upon completion of the interview, the on-line information system generates Form AA-1cert, Application Summary and Certification, or Form AA-1sum, Application Summary, a summary of the information that was provided for the applicant to review and approve. Form AA-1cert documents approval using the traditional pen and ink “wet” signature, and Form AA-1sum documents approval using the alternative signature method called Attestation. When the RRB representative is unable to contact the applicant in person or by telephone, for example, the applicant lives in another country, a manual version of Form AA-1 is used.

Form AA-1d, Application for Determination of Employee's Disability, is completed by an employee who is filing for a disability annuity under the RRA, or a disability freeze under the Social Security Act, for early Medicare based on a disability. Form G-204, Verification of Worker's Compensation/Public Disability Benefit Information, is used to obtain and verify information concerning a worker's compensation or a public disability benefit that is or will be paid by a public agency to a disabled railroad employee.

One response is requested of each respondent. Completion of the forms is required to obtain/retain a benefit.

Previous Requests for Comments: The RRB has already published the initial 60-day notice (89 FR 29375 on April 22, 2024) required by 44 U.S.C. 3506(c)(2). That request elicited no comments.

Information Collection Request (ICR)

Title: Application for Employee Annuity Under the Railroad Retirement Act.

OMB Control Number: 3220-0002.

Form(s) submitted: AA-1, AA-1cert, AA-1d, AA-1sum and G-204.

Type of request: Revision of a currently approved collection.

Affected public: Individuals or Households.

Abstract: The Railroad Retirement Act provides for payment of age, disability and supplemental annuities to qualified employees. The application and related forms obtain information about the applicant's family work history, military service, disability benefits from other government agencies and public or private pensions. The information is used to determine entitlement to and the amount of the annuity applied for.

Changes proposed: The RRB proposes no changes to Form AA-1, Form AA-1 (internet), and Form G-204. The RRB proposes a minor editorial change to Form AA-1cert and Form AA-1sum to correct the title of the RB-9 booklet. The RRB proposes minor changes to Form AA-1d:

• Section 1, General Instructions, the date is being updated to 06/06/23 in the 3rd paragraph.

• Section 7 question 38, The entry in parentheses associated with the question now reads (Do not include any self-employment, unemployment, or sickness benefits.)

• Section 8 question 45, has been changed to: Are you filing a form AA-1, Application for Employee Annuity, in connection with this application?

• Section 12 of the form. Under the Receipt for your claim section, the last sentence should read: Offices are open to public 9:00 a.m. to 3:00 p.m., Monday through Friday, and closed Federal Holidays.

The burden estimate for the ICR is as follows:

Form No. | Annual responses | Time (minutes) | Burden (hours)
AA-1 (without assistance) | 30 | 62 | 31
AA-1cert (with assistance) | 5,425 | 30 | 2,712
AA-1sum (with assistance) | 2,750 | 29 | 1,329
AA-1 (Internet) (without assistance) | 0 | 45 | 0
AA-1d (with assistance) | 2,600 | 60 | 2,600
AA-1d (without assistance) | 5 | 85 | 7
G-204 | 20 | 15 | 5
Total | 10,830 |  | 6,684

2. Title and purpose of information collection: Railroad Service and Compensation Reports/System Access Application; OMB 3220-0008.

Under section 9 of the Railroad Retirement Act (RRA) (45 U.S.C. 231h) and section 6 of the Railroad Unemployment Insurance Act (RUIA) (45 U.S.C. 356), the Railroad Retirement Board (RRB) maintains for each railroad employee, a record of compensation paid to that employee by all railroad employers for whom the employee worked after 1936. This record, which is used by the RRB to determine eligibility for, and amount of, benefits due under the laws it administers, is conclusive as to the amount of compensation paid to an employee during such period(s) covered by the report(s) of the compensation by the employee's railroad employer(s), except in cases when an employee files a protest pertaining to his or her reported compensation within the statute of limitations cited in section 9 of the RRA and section 6 of the RUIA.

To enable the RRB to establish and maintain the record of compensation, employers are required to file with the RRB, reports of their employees' compensation, in such manner and form and at such times as the RRB prescribes. Railroad employers' reports and responsibilities are prescribed in 20 CFR part 209. The RRB currently utilizes Form BA-3, Annual Report of Creditable Compensation, and Form BA-4, Report of Creditable Compensation Adjustments, to secure the required information from railroad employers. Form BA-3 provides the RRB with information regarding annual creditable service and compensation for each individual who worked for a railroad employer covered by the RRA and RUIA in a given year. Form BA-4 provides for the adjustment of any previously submitted reports and also the opportunity to provide any service and compensation that had been previously omitted. Requirements specific to Forms BA-3 and BA-4 are prescribed in 20 CFR 209.8 and 209.9.

Employers currently have the option of submitting BA-3 and BA-4 reports electronically by CD-ROM, secure Email, File Transfer Protocol (FTP), or online via the RRB's Employer Reporting System (ERS).

The information collection also includes RRB Form BA-12, Application for Employer Reporting internet Access, and Form G-440, Report Specifications Sheet. Form BA-12 is completed by railroad employers to obtain system access to ERS. Once access is obtained, authorized employees may submit reporting forms online to the RRB. The form determines what degree of access (view/only, data entry/modification or approval/submission) is appropriate for that employee. It is also used to terminate an employee's access to ERS. Form G-440, Report Specifications Sheet, serves as a certification document for Forms BA-3 and BA-4 as well as other RRB employer reporting forms (Form BA-6a, BA-6 Address Report (OMB 3220-0005), Form BA-9, Report of Separation Allowance or Severance Pay (OMB 3220-0173) and Form BA-11, Report of Gross Earnings (OMB 3220-0132)). It records the type of medium the report was submitted on and serves as a summary recapitulation sheet for reports filed on paper.

Previous Requests for Comments: The RRB has already published the initial 60-day notice (89 FR 29376 on April 22, 2024) required by 44 U.S.C. 3506(c)(2). That request elicited no comments.

Information Collection Request (ICR)

Title: Railroad Service and Compensation Reports/System Access Application.

OMB Control Number: 3220-0008.

Form(s) submitted: BA-3, BA-3 (internet), BA-4, BA-4 (internet), BA-12 and G-440.

Type of request: Revision of a currently approved collection.

Affected public: Private Sector; Businesses or other for-profits.

Abstract: Under the Railroad Retirement Act and the Railroad Unemployment Insurance Act, employers are required to report service and compensation for each employee to update Railroad Retirement Board records for payments of benefits. The collection obtains service and compensation information and information needed to ensure secure system access from employers who voluntarily opt to use the RRB's internet-based Employer Reporting System to submit reporting forms and information needed to certify employer reporting transactions.

Changes proposed: The RRB proposes no changes to Forms BA-3 (internet), BA-4 (internet), and G-440. The RRB proposes Form BA-12 to add the statement “I understand that I am acting as a trusted referee on behalf of the RRB and I have identity proofed the applicant by resolving, validating, and verifying a state and/or federal government-issued photo ID from the applicant. I also understand that I am responsible for notifying the RRB if, in the future, this individual's access should be terminated.”

The burden estimate for the ICR is as follows:

Reporting | Responses | Time (minutes) | Burden (hours)
BA-3:
Electronic Media 2/ | 96 | 46.25 (2,775) | 4,440
BA-3 (Internet) | 617 | 46.25 (2,775) | 28,536
Total BA-3 | 713 |  | 32,976
BA-4:
Electronic Media 2/ | 355 | 1.00 (60) | 355
BA-4 (Internet) | 3,942 | .33 (20) | 1,314
Total BA-4 | 4,297 |  | 1,669
BA-12:
Initial Access | 295 | .33 (20) | 98
Access Termination | 38 | .166 (10) | 7
Total BA-12 | 333 |  | 105
G-440 (certification):
Form BA-3 (no employees) | 19 | .25 (15) | 5
Form BA-11 (no employees) | 60 | .25 (15) | 15
Paper forms (without recap) | 7 | .25 (15) | 1
Form BA-15 | 600 | .25 (15) | 150
Electronic transactions | 94 | .50 (30) | 47
BA-3 and BA-4 (with recap) | 125 | 1.25 (75) | 156
Total G-440 | 905 |  | 374
Grand Total | 6,248 |  | 35,194

3. Title and purpose of information collection: Certification of Termination of Service and Relinquishment of Rights; OMB 3220-0016.

Under section 2(e)(2) of the Railroad Retirement Act (RRA) (45 U.S.C. 231a), an age and service annuity, spouse annuity, or divorced spouse annuity cannot be paid unless the Railroad Retirement Board (RRB) has evidence that the applicant has ceased railroad employment and relinquished rights to return to the service of a railroad employer. Under section 2(f)(6) of the RRA, earnings deductions are required for each month an annuitant works in certain non-railroad employment termed Last Pre-Retirement Non-Railroad Employment.

Normally, the employee, spouse, or divorced spouse relinquishes rights and certifies that employment has ended as part of the annuity application process. However, this is not always the case. In limited circumstances, the RRB utilizes Form G-88, Certification of Termination of Service and Relinquishment of Rights, to obtain an applicant's report of termination of employment and relinquishment of rights. One response is required of each respondent. Completion is required to obtain or retain benefits.

Previous Requests for Comments: The RRB has already published the initial 60-day notice (89 FR 29377 on April 22, 2024) required by 44 U.S.C. 3506(c)(2). That request elicited no comments.

Information Collection Request (ICR)

Title: Certification of Termination of Service and Relinquishment of Rights.

OMB Control Number: 3220-0016.

Form(s) submitted: G-88.

Type of request: Revision of a currently approved collection.

Affected public: Individuals or Households.

Abstract: Under section 2(e)(2) of the Railroad Retirement Act, the Railroad Retirement Board must have evidence that an annuitant for an age and service, spouse, or divorced spouse annuity has ceased railroad employment and relinquished their rights to return to the service of a railroad employer. The collection provides the means for obtaining this evidence.

Changes proposed: The RRB proposes no changes to Form G-88.

The burden estimate for the ICR is as follows:

Form No. | Annual responses | Time (minutes) | Burden (hours)
G-88 | 20 | 6 | 2

4. Title and Purpose of information collection: Statement of Authority to Act for Employee; OMB 3220-0034.

Under section 5(a) of the Railroad Unemployment Insurance Act (RUIA) (45 U.S.C. 355), claims for benefits are to be made in accordance with such regulations as the Railroad Retirement Board (RRB) shall prescribe. The provisions for claiming sickness benefits as provided by section 2 of the RUIA are prescribed in 20 CFR 335.2. Included in these provisions is the RRB's acceptance of forms executed by someone else on behalf of an employee if the RRB is satisfied that the employee is sick or injured to the extent of being unable to sign forms.

The RRB utilizes Form SI-10, Statement of Authority to Act for Employee, to provide the means for an individual to apply for authority to act on behalf of an incapacitated employee and also to obtain the information necessary to determine that the delegation should be made. Part I of the form is completed by the applicant for the authority and Part II is completed by the employee's doctor. One response is requested of each respondent. Completion is required to obtain benefits.

Previous Requests for Comments: The RRB has already published the initial 60-day notice (89 FR 29377 on April 24, 2024) required by 44 U.S.C. 3506(c)(2). That request elicited no comments.

Information Collection Request (ICR)

Title: Statement of Authority to Act for Employee.

OMB Control Number: 3220-0034.

Form(s) submitted: SI-10.

Type of request: Revision of a currently approved collection.

Affected public: Individuals or Households.

Abstract: Under 20 CFR 335.2, the Railroad Retirement Board (RRB) accepts claims for sickness benefits by other than the sick or injured employees, provided the RRB has the information needed to satisfy itself that the delegation should be made.

Changes proposed: The RRB proposes no changes to Form SI-10.

The burden estimate for the ICR is as follows:

Form No. | Annual responses | Time (minutes) | Burden (hours)
SI-10 | 17 | 6 | 2

5. Title and purpose of information collection: Supplemental Information on Accident and Insurance; OMB 3220-0036.

Under section 12(o) of the Railroad Unemployment Insurance Act (RUIA) (45 U.S.C. 362 (o)), the Railroad Retirement Board (RRB) is entitled to reimbursement of the sickness benefits paid to a railroad employee if the employee receives a sum or damages for the same infirmity for which the benefits are paid. Section 2(f) of the RUIA requires employers to reimburse the RRB for days in which salary, wages, pay for time lost or other remuneration is later determined to be payable. Reimbursements under section 2(f) generally result from the award of pay for time lost or the payment of guaranteed wages. The RUIA prescribes that the amount of benefits paid be deducted and held by the employer in a special fund for reimbursement to the RRB.

The RRB currently utilizes Forms SI-1c, Supplemental Information on Accident and Insurance; SI-5, Report of Payments to Employee Claiming Sickness Benefits Under the RUIA; ID-3s and ID-3s (internet), Request for Lien Information—Report of Settlement; ID-3s-1, Lien Information Under section 12(o) of the RUIA; ID-3u and ID-3u (internet), Request for Section 2(f) Information; ID-30k, Notice to Request Supplemental Information on Injury or Illness; and ID-30k-1, Notice to Request Supplemental Information on Injury or Illness; to obtain the necessary information from claimants and railroad employers. Completion is required to obtain benefits. One response is requested of each respondent.

Previous Requests for Comments: The RRB has already published the initial 60-day notice (89 FR 29377 on April 22, 2024) required by 44 U.S.C. 3506(c)(2). That request elicited no comments.

Information Collection Request (ICR)

Title: Supplemental Information on Accident and Insurance.

OMB Control Number: 3220-0036.

Form(s) submitted: SI-1c, SI-5, ID-3s, ID-3s (internet), ID-3s.1, ID3u, ID-3u (internet), ID-30k, and ID-30k.1.

Type of request: Revision of a currently approved collection of information.

Affected public: Individuals or Households.

Abstract: The Railroad Unemployment Insurance Act provides for the recovery of sickness benefits paid if an employee receives a settlement for the same injury for which benefits were paid. The collection obtains information that is needed to determine the amount of the RRB's reimbursement from the person or company responsible for such payments.

Changes proposed: The RRB proposes no changes to Forms SI-1c, SI-5, ID-3s-1, ID-30k, ID-3s (internet), ID-3u (internet). The RRB proposes the following minor non-burden impacting editorial changes to Form ID-3u & Form ID-3s:

• change PRA/PA notice to update the officer title and

• update RRB zip code.

The burden estimate for the ICR is as follows:

Form No. | Annual responses | Time (minutes) | Burden (hours)
SI-1c | 890 | 5 | 74
SI-5 | 10 | 5 | 1
ID-3s (paper & telephone) | 1,700 | 3 | 85
ID-3s (Internet) | 4,853 | 3 | 243
ID-3s-1 (paper & telephone) | 1,845 | 3 | 93
ID-3u (paper & telephone) | 152 | 3 | 8
ID-3u (Internet) | 596 | 3 | 30
ID-30k | 24 | 5 | 3
Total | 10,070 |  | 537

6. Title and Purpose of information collection: Employee Non-Covered Service Pension Questionnaire; OMB 3220-0154.

Section 215(a)(7) of the Social Security Act provides for a reduction in social security benefits based on employment not covered under the Social Security Act or the Railroad Retirement Act (RRA). This provision applies a different social security benefit formula to most workers who are first eligible after 1985 to both a pension based in whole or in part on non-covered employment and a social security retirement or disability benefit. There is a guarantee provision that limits the reduction in the social security benefit to one-half of the portion of the pension based on non-covered employment after 1956. Section 8011 of Public Law 100-647 changed the effective date of the onset from the first month of eligibility to the first month of concurrent entitlement to the non-covered service benefit and the RRA benefit.

Section 3(a)(1) of the RRA (45 U.S.C. 231b) provides that the Tier I benefit of an employee annuity shall be equal to the amount (before any reduction for age or deduction for work) the employee would receive if entitled to a like benefit under the Social Security Act. The reduction for a non-covered service pension also applies to a Tier I portion of the employee annuity under the RRA when the annuity or non-covered service pension begins after 1985. Since the amount of a spouse's Tier I benefit is one-half of the employee's Tier I, the spouse annuity is also affected.

Form G-209, Employee Non-Covered Service Pension Questionnaire, is used by the RRB to obtain needed information (1) from a railroad employee who while completing Form AA-1, Application for Employee Annuity (OMB No. 3220-0002), indicates entitlement to or receipt of a pension based on employment not covered under the Railroad Retirement Act or the Social Security Act; or (2) from a railroad employee when an independently-entitled divorced spouse applicant believes the employee to be entitled to a non-covered service pension. However, this development is unnecessary if RRB records indicate the employee has 30 or more years of coverage; or (3) from an employee annuitant who becomes entitled to a pension based on employment not covered under the Railroad Retirement Act or the Social Security Act. One response is requested of each respondent. Completion is required to obtain or retain benefits.

Previous Requests for Comments: The RRB has already published the initial 60-day notice (89 FR 29378 on April 22, 2024) required by 44 U.S.C. 3506(c)(2). That request elicited no comments.

Information Collection Request (ICR)

Title: Employee Non-Covered Service Pension Questionnaire.

OMB Control Number: 3220-0154.

Form(s) submitted: G-209.

Type of request: Extension without change of a currently approved collection.

Affected public: Individuals or Households.

Abstract: Under section 3 of the Railroad Retirement Act, the Tier I portion of an employee annuity may be subjected to a reduction for benefits received based on work not covered under the Social Security Act or Railroad Retirement Act. The questionnaire obtains the information needed to determine if the reduction applies and the amount of such reduction.

Changes proposed: The RRB proposes no changes to Form G-209.

The burden estimate for the ICR is as follows:

Form No. | Annual responses | Time (minutes) | Burden (hours)
G-209 (Partial Questionnaire) | 50 | 1 | 1
G-209 (Full Questionnaire) | 100 | 8 | 13
Total | 150 |  | 14

7. Title and purpose of information collection: Availability for Work; OMB 3220-0164.

Under section 1(k) of the Railroad Unemployment Insurance Act (45 U.S.C. 231k), unemployment benefits are not payable for any day for which the claimant is not available for work.

Under Railroad Retirement Board (RRB) regulation 20 CFR 327.5, “available for work” is defined as being willing and ready for work. A claimant is “willing” to work if willing to accept and perform for hire such work as is reasonably appropriate to his or her employment circumstances. A claimant is “ready” for work if he or she (1) is in a position to receive notice of work and is willing to accept and perform such work, and (2) is prepared to be present with the customary equipment at the location of such work within the time usually allotted.

Under RRB regulation 20 CFR 327.15, a claimant may be requested at any time to show, as evidence of willingness to work, that reasonable efforts are being made to obtain work. In order to determine whether a claimant is; (a) available for work, and (b) willing to work, the RRB utilizes Forms UI-38, UI Claimant's Report of Efforts to Find Work, and UI-38s, School Attendance and Availability Questionnaire, to obtain information from the claimant and Form ID-8k, Questionnaire—Reinstatement of Discharged or Suspended Employee, from the union representative. One response is completed by each respondent.

Previous Requests for Comments: The RRB has already published the initial 60-day notice (89 FR 76629 on April 22, 2024) required by 44 U.S.C. 3506(c)(2). That request elicited no comments.

Information Collection Request (ICR)

Title: Availability for Work.

OMB Control Number: 3220-0164.

Form(s) submitted: UI-38, UI-38s, and ID-8k.

Type of request: Revision of a currently approved collection of information.

Affected public: Individuals or Households, Non-profit institutions.

Abstract: Under section 1(k) of the Railroad Unemployment Insurance Act, unemployment benefits are not payable for any day in which the claimant is not available for work. The collection obtains information needed by the RRB to determine whether a claimant is willing and ready to work.

Changes proposed: The RRB proposes no changes to Forms UI-38 and ID-8k. The RRB proposes the following minor non-burden editorial changes to Form UI-38s:

• change PRA/PA notice to update the officer title and

• update RRB zip code.

The burden estimate for the ICR is as follows:

Form No. | Annual responses | Time (minutes) | Burden (hours)
UI-38s (in person) | 59 | 6 | 6
UI-38s (by mail) | 119 | 10 | 20
UI-38 | 3,485 | 11.5 | 668
ID-8k | 6,461 | 5 | 538
Total | 10,124 |  | 1,232

8. Title and purpose of information collection: Representative Payee Parental Custody Monitoring; OMB 3220-0176.

Under section 12(a) of the Railroad Retirement Act (RRA) (45 U.S.C. 231k), the Railroad Retirement Board (RRB) is authorized to select, make payments to, and to conduct transactions with, a beneficiary's relative or some other person willing to act on behalf of the beneficiary as a representative payee. The RRB is responsible for determining if direct payment to the beneficiary or payment to a representative payee would best serve the beneficiary's interest. Inherent in the RRB's authorization to select a representative payee is the responsibility to monitor the payee to assure that the beneficiary's interests are protected. The RRB utilizes Form G-99D, Parental Custody Report, to obtain information needed to verify that a parent-for-child representative payee still has custody of the child. One response is required from each respondent.

Previous Requests for Comments: The RRB has already published the initial 60-day notice (89 FR 29379 on April 22, 2024) required by 44 U.S.C. 3506(c)(2). That request elicited no comments.

Information Collection Request (ICR)

Title: Representative Payee Parental Custody Monitoring.

OMB Control Number: 3220-0176.

Form(s) submitted: G-99D.

Type of request: Revision of a currently approved collection.

Affected public: Individuals or households.

Abstract: Under section 12(a) of the Railroad Retirement Act, the RRB is authorized to select, make payments to, and conduct transactions with an annuitant's relative or some other person willing to act on behalf of the annuitant as a representative payee. The collection obtains information needed to verify the parent-for-child payee still retains custody of the child.

Changes proposed: The RRB proposes the following changes to Form G-99d:

• update office hours in top left corner, and

• add the Reporting Period at the top of the form.

The burden estimate for the ICR is as follows:

Form No. | Annual responses | Time (minutes) | Burden (hours)
G-99D | 2,100 | 15 | 525

Additional Information or Comments: Copies of the forms and supporting documents can be obtained from Kennisha Money at (312) 469-2591 or Kennisha.Money@rrb.gov. Comments regarding the information collection should be addressed to Brian Foster, Railroad Retirement Board, 844 North Rush Street, Chicago, Illinois, 60611-1275 or Brian.Foster@rrb.gov.

Written comments and recommendations for the proposed information collection should be sent within 30 days of publication of this notice to www.reginfo.gov/public/do/PRAMain. Find this particular information collection by selecting “Currently under 30-day Review—Open for Public Comments” or by using the search function.

Brian Foster,
Clearance Officer.

[FR Doc. 2024-14023 Filed 6-25-24; 8:45 am]

BILLING CODE 7905-01-P